DEPARTMENT OF THE INTERIOR

Bureau of Land Management

[CO-600-1120-PG-241A]

Notice of Meeting, Southwest Resource Advisory Council (Colorado)

AGENCY: Bureau of Land Management, Interior.

ACTION: Notice of public meeting.

SUMMARY: In accordance with the Federal Land Policy and Management Act and the Federal Advisory Committee Act of 1972, the U.S. Department of the Interior, Bureau of Land Management (BLM) Southwest Resource Advisory Council (RAC), will meet as indicated below.

DATES: The meeting will be held on February 20, 2004, at the Kendall Mountain Community Center, Silverton, Colorado and will begin at 9 a.m. The public comment period will be at 9:30 a.m. and 3 p.m.

SUPPLEMENTARY INFORMATION: The 15-member RAC advises the Secretary of the Interior, through the BLM, on a variety of planning and management issues associated with public land management in Southwest, Colorado. Planned agenda topics include:

Manager reports,

Public comment,

Discussion of old business,

Discussion of road and rights-of-way issues, and

Discussion of the ongoing environmental review of several major projects and proposals (e.g., Silverton Mountain Ski Area and Northern San Juan Basin Gas Development).

All meetings are open to the public. The public can make oral statements to the Council at 9:30 a.m. and 3 p.m. or written statements may be submitted for the Council's consideration. Depending on the number of persons wishing to comment and time available, the time for individual oral comments may be limited. Summary minutes for the Council Meeting will be maintained in the Western Slope Center Office (BLM), 2465 S. Townsend, Montrose, Colorado 81401, and will be available for public inspection and reproduction during regular business hours within thirty (30) days following the meeting.

FOR FURTHER INFORMATION CONTACT: San Juan Public Lands Center, 15 Burnett Court, Durango, Colorado 81301. Phone (970) 385-1290.

Dated: January 13, 2004.
Mark W. Stiles,
San Juan Public Lands Center Manager.

[FR Doc. 04-1315 Filed 1-21-04; 8:45 am]

BILLING CODE 4310-JB-P